NUCLEAR REGULATORY COMMISSION

[Docket Nos. 50-18, 50-70, 50-73, 50-183, and 70-754; NRC-2023-0191]

In the Matter of GE-Hitachi Nuclear Energy Americas, LLC and NorthStar Vallecitos, LLC; Vallecitos Nuclear Center; Direct Transfer of Licenses

AGENCY: Nuclear Regulatory Commission.

ACTION: Order; issuance.

SUMMARY: The U.S. Nuclear Regulatory Commission (NRC) is issuing an order approving the license transfer application filed by GE-Hitachi Nuclear Energy Americas, LLC (GEHA) and NorthStar Vallecitos, LLC (NorthStar Vallecitos), dated September 1, 2023, as supplemented by letters dated September 5, 2023, October 19, 2023, November 1, 2023, January 22, 2024, and March 15, 2024. Specifically, the order approves the direct transfer of control of Possession Only License Nos. DPR-1 for the Vallecitos Boiling Water Reactor, TR-1 for the General Electric Test Reactor, R-33 for the Nuclear Test Reactor, and DR-10 for the Empire State Atomic Development Associates Experimental Vallecitos Superheat Reactor and Special Nuclear Material (SNM) License No. SNM-960 from GEHA to NorthStar Vallecitos and the issuance of conforming amendments to the licenses, including license conditions.

DATES: The order was issued on April 25, 2024, and is effective for 1 year.

ADDRESSES: Please refer to Docket ID NRC-2023-0191 when contacting the NRC about the availability of information regarding this document. You may obtain publicly available information related to this document using any of the following methods:

• Federal Rulemaking Website: Go to https://www.regulations.gov and search for Docket ID NRC-2023-0191. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The order, the NRC staff safety evaluation supporting the order, and the draft conforming license amendments are available in ADAMS under Package Accession No. ML24039A011.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Chris Allen, Office of Nuclear Material Safety and Safeguards, U.S. Nuclear Regulatory Commission, Washington, DC 20555-0001, telephone: 301-415-6877; email: William.Allen@nrc.gov.

SUPPLEMENTARY INFORMATION: The text of the order is attached.

Dated: April 26, 2024.
For the Nuclear Regulatory Commission.
William Allen,
Project Manager, Reactor Decommissioning Branch, Division of Decommissioning, Uranium Recovery, and Waste Programs, Office of Nuclear Material Safety and Safeguards.

Attachment—Order Approving Transfer of Licenses and Conforming License Amendments

UNITED STATES OF AMERICA

NUCLEAR REGULATORY COMMISSION

In the Matter of: GE-Hitachi Nuclear Energy Americas, LLC, Vallecitos Nuclear Center 50-183, EA-24-040 DR-10, Docket Nos.: 50-18, 50-70, 50-73, and 70-754, License Nos.: DPR-1, TR-1, R-33, and SNM-960.

Order Approving Transfer of Licenses and Conforming License Amendments

I.

GE-Hitachi Nuclear Energy Americas, LLC (GEHA) is the holder of Possession Only License No. DPR-1 for the Vallecitos Boiling Water Reactor, Possession Only License No. TR-1 for the General Electric Test Reactor, Possession Only License No. R-33 for the Nuclear Test Reactor, and Possession Only License No. DR-10 for the Empire State Atomic Development Associates Experimental Vallecitos Superheat Reactor. These licenses authorize GEHA to possess the nuclear material associated with each reactor license subject to the conditions specified therein. They do not authorize GEHA either to use or to operate the reactors associated with the licenses. These reactor facilities are located at the Vallecitos Nuclear Center (VNC) in Sunol, California. GEHA is also the holder of Special Nuclear Material (SNM) License No. SNM-960, which authorizes the storage of SNM at the VNC.

II.

By application dated September 1, 2023 (Agencywide Documents Access and Management System (ADAMS) Accession No. ML23244A247), as supplemented by letters dated September 5, 2023 (ML23248A232); October 19, 2023 (ML23292A336); November 1, 2023 (ML23305A052); January 22, 2024 (ML24022A323); and March 15, 2024 (ML24075A277), GEHA and NorthStar Vallecitos, LLC (NorthStar Vallecitos) (collectively, the Applicants) requested that the U.S. Nuclear Regulatory Commission (NRC) consent to the direct transfer of control of Possession Only License No. DPR-1 for the Vallecitos Boiling Water Reactor, Possession Only License No. TR-1 for the General Electric Test Reactor, Possession Only License No. R-33 for the Nuclear Test Reactor, Possession Only License No. DR-10 for the Empire State Atomic Development Associates Experimental Vallecitos Superheat Reactor, and SNM License No. SNM-960 (collectively, the licenses) located at the VNC in Sunol, California. Specifically, the Applicants requested that the NRC consent to the direct transfer of GEHA's currently licensed authority to possess nuclear material, to maintain the VNC in a safe condition (including storage, control, and maintenance of all nuclear material), and to decommission the VNC to NorthStar Vallecitos. This license transfer application was submitted to the NRC for approval under Section 184, “Inalienability of Licenses,” of the Atomic Energy Act of 1954, as amended (AEA), and Title 10 of the Code of Federal Regulations (10 CFR) 50.80, “Transfer of licenses”; 10 CFR 50.90, “Application for amendment of license, construction permit, or early site permit”; 10 CFR 70.34, “Amendment of licenses”; and 10 CFR 70.36, “Inalienability of licenses.” Notice of the receipt of the license transfer application and opportunity to comment, request a hearing, and petition for leave to intervene was published in the Federal Register on November 8, 2023 (88 FR 77113). The supplemental letters, listed above, contained clarifying information and did not expand the license transfer application beyond the scope of the original notice.

GEHA intends to transfer its licensed possession, maintenance, and decommissioning authorities to NorthStar Vallecitos to expedite the decommissioning at the VNC. Following approval and completion of the proposed direct transfer of control of the licenses, NorthStar Vallecitos would assume licensed responsibility for the VNC through the transfer of GEHA's responsibility for licensed activities at the VNC to NorthStar Vallecitos. NorthStar Vallecitos would own the VNC facility as well as its associated assets and real estate, including its decommissioning trust fund, title to spent nuclear fuel, and rights under the terms of its Standard Contract for Disposal of Spent Nuclear Fuel and/or High-Level Radioactive Waste with the U.S. Department of Energy. Upon the proposed license transfer, NorthStar Vallecitos would assume responsibility for compliance with the current licensing basis, including regulatory commitments that exist at the closing of the transfer transaction between the Applicants, and would implement any changes under applicable regulatory requirements and practices. The Applicants also requested that the NRC impose license conditions relating to the management of the decommissioning trust fund, established for the purpose of providing decommissioning financial assurance for the licenses, and approve conforming administrative amendments to the licenses to reflect the direct transfer of the licenses from GEHA to NorthStar Vallecitos.

The NRC received one public comment on the license transfer application. It is summarized in the NRC staff's safety evaluation of the license transfer application. The NRC staff reviewed the comment submission and considered it, as appropriate, as part of its evaluation of the application.

Under 10 CFR 50.80, no license for a production or utilization facility, or any right thereunder, shall be transferred, either voluntarily or involuntarily, directly or indirectly, through transfer of control of the license to any person, unless the Commission gives its consent in writing. Under 10 CFR 70.36, no license to possess or use special nuclear material, or any right thereunder, shall be transferred, either voluntarily or involuntarily, directly or indirectly, through transfer of control of the license to any person, unless the Commission gives its consent in writing. Upon review of the information in the license transfer application, as supplemented, and other information before the Commission, and relying upon the representations and agreements contained in the application, the NRC staff has determined that NorthStar Vallecitos is qualified to be the holder of the licenses, and that the direct transfer of the licenses, as described in the application, is otherwise consistent with applicable provisions of law, regulations, and orders issued by the Commission pursuant thereto, subject to the condition set forth below.

Upon review of the request in the license transfer application, as supplemented, for conforming administrative amendments to the licenses to reflect the direct transfer of the licenses, the NRC staff has determined the following:

(1) The application for amendments complies with the standards and requirements of the AEA and the Commission's rules and regulations set forth in 10 CFR Chapter I.

(2) There is reasonable assurance that the activities authorized by the amendments can be conducted without endangering the health and safety of the public and that such activities will be conducted in compliance with the Commission's regulations.

(3) The issuance of the amendments will not be inimical to the common defense and security or to the health and safety of the public.

(4) The issuance of the amendments is in accordance with 10 CFR part 51, “Environmental Protection Regulations for Domestic Licensing and Related Regulatory Functions,” of the Commission's regulations, and all applicable requirements have been satisfied.

The findings set forth above are supported by an NRC staff safety evaluation dated April 25 2024, which is available at ML24039A011.

III.

Accordingly, under Sections 161b, 161i, 161o, and 184 of the AEA; 42 U.S.C. 2201(b), 2201(i), 2201(o), and 2234; and 10 CFR 50.80, 10 CFR 50.90, 10 CFR 70.34, and 10 CFR 70.36, IT IS HEREBY ORDERED that the application for the direct transfer of the licenses from GEHA to NorthStar Vallecitos, as described herein, is approved subject to the following condition:

Prior to the closing of the license transfer transaction, NorthStar Vallecitos, LLC shall provide the Director of the NRC's Office of Nuclear Material Safety and Safeguards (NMSS) satisfactory documentary evidence that it has obtained, or will have obtained upon the closing of the transaction, the appropriate amount of insurance under 10 CFR part 140 and 10 CFR 50.54(w), as applicable.

It is further ordered that, consistent with 10 CFR 2.1315(b), the license amendments that make changes, as indicated in Enclosures 2 through 7 to the letter transmitting this Order, to reflect the subject direct license transfer are approved. The amendments shall be issued and made effective at the time the license transfer transaction is completed.

It is further ordered that NorthStar Vallecitos shall, at least 2 business days before the planned closing of the license transfer transaction, inform the Director of NMSS in writing of the planned closing date. Should the proposed transfer not be completed within 1 year of this Order's date of issuance, this Order shall become null and void; provided, however, that upon written application and for good cause shown, such date may be extended by order. The condition of this Order may be amended upon application by the Applicants and approval by the NRC.

This Order is effective upon issuance.

For further details with respect to this Order, see the license transfer application dated September 1, 2023, as supplemented on September 5, 2023; October 19, 2023; November 1, 2023; January 22, 2024; and March 15, 2024, and the associated NRC staff safety evaluation dated April 25 2024, which are available for public inspection at the Commission's Public Document Room (PDR), located at One White Flint North, 11555 Rockville Pike, Rockville, Maryland. Publicly available documents are accessible electronically through ADAMS in the NRC Library at https://www.nrc.gov/reading-rm/adams.html. Persons who encounter problems with ADAMS should contact the NRC's PDR reference staff by telephone at 1-800-397-4209 or 301-415-4737 or by email to PDR.Resource@nrc.gov.

Dated: April 25, 2024.

For The Nuclear Regulatory Commission.

/RA/

John W. Lubinski, Director,

Office of Nuclear Material Safety and Safeguards.

[FR Doc. 2024-09487 Filed 5-1-24; 8:45 am]

BILLING CODE 7590-01-P